SECURITIES AND EXCHANGE COMMISSION

[Release No. 34-92418; File No. SR-ICEEU-2021-010]

Self-Regulatory Organizations; ICE Clear Europe Limited; Notice of Partial Amendment No. 1 and Designation of Longer Period for Commission Action on Proposed Rule Change Relating to the Clearing Rules, Clearing Procedures, Finance Procedures, Delivery Procedures, CDS Procedures, Membership Procedures, Complaint Resolution Procedures, and General Contract Terms

July 15, 2021.

I. Introduction

On May 13, 2021, ICE Clear Europe Limited (“ICE Clear Europe”) filed with the Securities and Exchange Commission (“Commission”), pursuant to Section 19(b)(1) of the Securities Exchange Act (“Act”) ¹ and Rule 19b-4 thereunder,² a proposed rule change to amend its Clearing Rules, Clearing Procedures, Finance Procedures, Delivery Procedures, CDS Procedures, Membership Procedures, Complaint Resolution Procedures, and General Contract Terms to make various updates and enhancements. The proposed rule change was published for comment in the Federal Register on June 2, 2021.³ To date, the Commission has not received comments on the proposed rule change. On June 16, 2021, ICE Clear Europe filed Partial Amendment No. 1 to the proposed rule change. The Commission is publishing this notice to solicit comments on Partial Amendment No. 1 and to designate a longer period for action on the proposed rule change, as modified by Partial Amendment No. 1.

¹ 15 U.S.C. 78s(b)(1).

² 17 CFR 240.19b-4.

³ Self-Regulatory Organizations; ICE Clear Europe Limited; Notice of Filing of Proposed Rule Change Relating to the Clearing Rules, Clearing Procedures, Finance Procedures, Delivery Procedures, CDS Procedures, Membership Procedures, Complaint Resolution Procedures and General Contract Terms, Exchange Act Release No. 34-92020 (May 26, 2021); 86 FR 29612 (June 2, 2021) (SR-ICEEU-2021-010).

II. Notice of Partial Amendment No. 1 and Solicitation of Comments

On June 16, 2021, ICE Clear Europe filed Partial Amendment No. 1 to update Exhibit 5D, the Delivery Procedures, to correct a formatting error that resulted in the omission of several proposed definitions to update references to ICE Clear Europe systems.

Interested persons are invited to submit written data, views, and arguments concerning the foregoing, including whether the proposed rule change, as modified by Partial Amendment No. 1, is consistent with the Act. Comments may be submitted by any of the following methods:

Electronic Comments

• Use the Commission's internet comment form (http://www.sec.gov/rules/sro.shtml) or

• Send an email to rule-comments@sec.gov. Please include File Number SR-ICEEU-2021-010 on the subject line.

Paper Comments

• Send paper comments in triplicate to Secretary, Securities and Exchange Commission, 100 F Street NE, Washington, DC 20549-1090.

All submissions should refer to File Number SR-ICEEU-2021-010. This file number should be included on the subject line if email is used. To help the Commission process and review your comments more efficiently, please use only one method. The Commission will post all comments on the Commission's internet website (http://www.sec.gov/rules/sro.shtml). Copies of the submission, all subsequent amendments, all written statements with respect to the proposed rule change, as modified by Partial Amendment No. 1, that are filed with the Commission, and all written communications relating to the proposed rule change, as modified by Partial Amendment No. 1, between the Commission and any person, other than those that may be withheld from the public in accordance with the provisions of 5 U.S.C. 552, will be available for website viewing and printing in the Commission's Public Reference Room, 100 F Street NE, Washington, DC 20549, on official business days between the hours of 10:00 a.m. and 3:00 p.m. Copies of such filings will also be available for inspection and copying at the principal office of ICE Clear Europe and on ICE Clear Europe's website at https://www.theice.com/clear-europe/regulation. All comments received will be posted without change. Persons submitting comments are cautioned that we do not redact or edit personal identifying information from comment submissions. You should submit only information that you wish to make available publicly. All submissions should refer to File Number SR-ICEEU-2021-010 and should be submitted on or before August 11, 2021.

III. Designation of Longer Period for Action on the Proposed Rule Change, as Modified by Partial Amendment No. 1

Section 19(b)(2) of the Act ⁴ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day from the publication of notice of filing of this proposed rule change is July 17, 2021.

⁴ 15 U.S.C. 78s(b)(2).

The Commission is extending the 45-day time period for Commission action on the proposed rule change, as modified by by Partial Amendment No. 1. The Commission finds it is appropriate to designate a longer period within which to take action on the proposed rule change so that it has sufficient time to consider ICE Clear Europe's proposed rule change, as modified by by Partial AmendmentNo. 1.

Accordingly, pursuant to Section 19(b)(2) ⁵ of the Act, and for the reasons discussed above, the Commission designates August 31, 2021, as the date by which the Commission should either approve or disapprove, or institute proceedings to determine whether to disapprove, the proposed rule change, as modified by by Partial Amendment No. 1. (File No. SR-ICEEU-2021-010).

⁵ 15 U.S.C. 78s(b)(2).

⁶ 17 CFR 200.30-3(a)(31).

For the Commission, by the Division of Trading and Markets, pursuant to delegated authority.⁶
J. Matthew DeLesDernier,
Assistant Secretary.

[FR Doc. 2021-15443 Filed 7-20-21; 8:45 am]

BILLING CODE 8011-01-P